DEPARTMENT OF ENERGY

Federal Energy Regulatory Commission

[Docket Nos. RM19-15-002, AD16-16-002]

Qualifying Facility Rates and Requirements Implementation Issues Under the Public Utility Regulatory Policies Act of 1978; Notice of Second Revised Procedural Schedule for the Environmental Assessment for Qualifying Facility Rates and Requirements Implementation Issues Under the Public Utility Regulatory Policies Act of 1978

On July 16, 2020, the Federal Energy Regulatory Commission (Commission) issued Order No. 872,¹ approving certain revisions to its regulations implementing sections 201 and 210 of the Public Utility Regulatory Policies Act of 1978 (PURPA).² On September 5, 2023, the U.S. Court of Appeals for the Ninth Circuit (Ninth Circuit) remanded Order No. 872, without vacatur, based on its finding that, pursuant to the National Environmental Policy Act (NEPA),³ the Commission must prepare an environmental assessment (EA) analyzing the potential impacts of the rule on climate change and air quality.⁴

¹ Qualifying Facility Rates & Requirements; Implementation Issues Under the Pub. Util. Regul. Policies Act of 1978, Order No. 872, 172 FERC ¶ 61,041, order on reh'g, Order No. 872-A, 173 FERC ¶ 61,158 (2020), aff'd in part and remanded in part sub nom. Solar Energy Indus. Ass'n v. FERC, 80 F.4th 956 (9th Cir. 2023) (Solar Energy).

² 16 U.S.C. 796(17)-(18), 824a-3.

³ 42 U.S.C. 4321 et seq.; see also 18 CFR pt. 380 (2024) (Commission's regulations implementing NEPA).

⁴ Solar Energy, 80 F.4th at 996-97.

This notice identifies Commission staff's revised schedule for the completion of the EA. The first revised notice of schedule, issued on December 18, 2024, identified June 30, 2025, as the issuance date. Commission staff issued the initial notice of schedule on September 26, 2024.

By this notice, Commission staff is updating the procedural schedule ⁵ and setting forth a second revised schedule for completion of the EA, in order to provide Commission staff more time to complete its analysis. The revised schedule is shown below.

⁵ For tracking purposes under the National Environmental Policy Act, the unique identification number for documents relating to this environmental review is EAXX-19-20-000-1726219809.

Schedule for Environmental Review

Issuance of EA September 26, 2025

End of Public Comment Period October 26, 2025

The Commission strongly encourages electronic filing. Please file using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number RM19-15-002. Comments emailed to Commission staff are not considered part of the Commission record.

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members, and others, access publicly available information and navigate Commission processes. For public inquiries and assistance with making filings, the public is encouraged to contact OPP at (202) 502-6595 or OPP@ferc.gov.

Additional information about the final rule is available from the Commission's Office of External Affairs at (866) 208-FERC or on the FERC website (www.ferc.gov). Using the “eLibrary” link, select “General Search” from the eLibrary menu, enter the selected date range and “Docket Number” excluding the last three digits (i.e., RM19-15), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 30, 2025.
Carlos D. Clay,
Deputy Secretary.

[FR Doc. 2025-12460 Filed 7-2-25; 8:45 am]

BILLING CODE 6717-01-P